DEPARTMENT OF ENERGY

Federal Energy Regulatory Commission

[Docket No. RP00-626-001]

Transwestern Pipeline Company; Notice of Compliance Filing

November 22, 2000.

Take notice that on November 13, 2000, Transwestern Pipeline Company (Transwestern) tendered for filing to become part of its FERC Gas Tariff, Second Revised Volume No. 1, the following sheets to be effective January 1, 2001:

18 Revised Sheet No. 48

Sixth Revised Sheet No. 70

Original Sheet No. 99

Sheet No. 100

Transwestern states that this filing is made to comply with the Commission's October 27, 2000 order which directed Transwestern to file tariff sheets to implement trading of operator imbalances.

Transwestern states that copies of the filing were served upon all parties listed on the official service list for this proceeding.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance). Comments and protests may be filed electronically via the internet in lieu of paper. See, 18 CFR 385.2001(a)(1)(iii) and the instructions on the Commission's web site at http://www.ferc.fed.us/efi/doorbell.htm.

David P. Boergers,
Secretary.

[FR Doc. 00-30353 Filed 11-28-00; 8:45 am]

BILLING CODE 6717-01-M